DEPARTMENT OF ENERGY

Federal Energy Regulatory Commission

[Docket No. IC19-33-000]

Commission Information Collection Activities (FERC-539); Comment Request; Extension

AGENCY: Federal Energy Regulatory Commission.

ACTION: Notice of information collection and request for comments.

SUMMARY: In compliance with the requirements of the Paperwork Reduction Act of 1995 (PRA), the Federal Energy Regulatory Commission (Commission or FERC) is soliciting public comment on the currently approved information collection, FERC-539 (Gas Pipeline Certificates: Import and Export Related Applications) and submitting the information collection to the Office of Management and Budget (OMB) for review. Any interested person may file comments directly with OMB and should address a copy of those comments to the Commission as explained below.

DATES: Comments on the collection of information are due December 16, 2019.

ADDRESSES: Comments filed with OMB, identified by the OMB Control No. 1902-0062, should be sent via email to the Office of Information and Regulatory Affairs: oira_submission@omb.gov. Attention: Federal Energy Regulatory Commission Desk Office.

A copy of the comments should also be sent to the Commission, in Docket No. IC19-33-000, by either of the following methods:

• eFiling at Commission's Website: http://www.ferc.gov/docs-filing/efiling.asp.

• Mail: Federal Energy Regulatory Commission, Secretary of the Commission, 888 First Street NE, Washington, DC 20426.

Instructions: All submissions must be formatted and filed in accordance with submission guidelines at: http://www.ferc.gov/help/submission-guide.asp. For user assistance, contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION: On September 3, 2019 (84 FR 46005), the Commission published a Notice in the Federal Register in Docket No. IC19-33-000 requesting public comments. The Commission received no comments and is noting that in the related submittal to OMB.

Title: FERC-539 (Gas Pipeline Certificates: Import and Export Related Applications).

OMB Control No.: 1902-0062.

Type of Request: Three-year extension of the FERC-539 with no changes to the reporting and recordkeeping requirements.¹

¹ On 10/29/2019, FERC submitted a request to OMB for an emergency extension. On 10/31/2019, OMB granted a 2-month extension for FERC-539.

Abstract: Section 3 of the Natural Gas Act (NGA) (Pub. L. 75-688) (15 U.S.C. 717-717w) provides, in part, that . . . no person shall export any natural gas from the United States to a foreign country or import any natural gas from a foreign country without first having secured and order from the Commission authorizing it to do so. The 1992 amendments to Section 3 of the NGA concern importation or exportation from/to a nation which has a free trade agreement with the United States, and requires that such importation or exportation: (1) Shall be deemed to be a first sale, i.e., not a sale for a resale, and (2) Shall be deemed to be consistent with the public interest, and applications for such importation or exportation shall be granted without modification or delay.

With the ratification of the North American Free Trade Agreement and the Canadian Free Trade Agreement, the Federal regulatory focus on construction, operation, and siting of import and export facilities increased significantly.

Estimate of Annual Burden.² The Commission estimates the annual public reporting burden and cost ³ for the information collection as:

² Burden is defined as the total time, effort, or financial resources expended by persons to generate, maintain, retain, or disclose or provide information to or for a federal agency. See 5 CFR 1320 for additional information on the definition of information collection burden.

³ The Commission staff estimates that industry is similarly situated in terms of hourly cost (for wages plus benefits). Based on the Commission's FY (Fiscal Year) 2019 average cost (for wages plus benefits), $80.00/hour is used.

FERC-539, Gas Pipeline Certificates: Import & Export Related Applications
Number of respondents | Number of responses per respondent | Total number of responses | Average burden hours & average cost per response ($) | Total annual burden hours & total annual cost ($) | Cost per respondent ($)
(1) | (2) | (1) × (2) = (3) | (4) | (3) × (4) = (5) | (5) ÷ (1) = (6)
6 | 2 | 12 | 15 hours; $1,200 | 180 hours; $14,400 | $2,400

Comments: Comments are invited on: (1) Whether the collection of information is necessary for the proper performance of the functions of the Commission, including whether the information will have practical utility; (2) the accuracy of the agency's estimates of the burden and cost of the collection of information, including the validity of the methodology and assumptions used; (3) ways to enhance the quality, utility and clarity of the information collection; and (4) ways to minimize the burden of the collection of information on those who are to respond, including the use of automated collection techniques or other forms of information technology.

Dated: November 5, 2019.
Kimberly D. Bose,
Secretary.

[FR Doc. 2019-24568 Filed 11-14-19; 8:45 am]

BILLING CODE 6717-01-P